U.S.-CHINA ECONOMIC AND SECURITY REVIEW COMMISSION

Notice of Open Public Hearing

AGENCY: U.S.-China Economic and Security Review Commission

ACTION: Notice of open public hearing.

SUMMARY: Notice is hereby given of the following hearing of the U.S.-China Economic and Security Review Commission.

The Commission is mandated by Congress to investigate, assess, and report to Congress annually on “the national security implications of the economic relationship between the United States and the People's Republic of China.” Pursuant to this mandate, the Commission will hold a public hearing in Washington, DC on April 5, 2018 on “China's Relations with U.S. Allies and Partners in Europe and the Asia Pacific.”

DATES: The hearing is scheduled for Thursday, April 5, 2018 from 9:00 a.m. to 3:20 p.m.

ADDRESSES: 419 Dirksen Senate Office Building, Washington, DC. A detailed agenda for the hearing will be posted on the Commission's website at www.uscc.gov. Also, please check the Commission's website for possible changes to the hearing schedule. Reservations are not required to attend the hearing.

FOR FURTHER INFORMATION CONTACT: Any member of the public seeking further information concerning the hearing should contact Leslie Tisdale, 444 North Capitol Street NW, Suite 602, Washington, DC 20001; telephone: 202-624-1496, or via email at ltisdale@uscc.gov. Reservations are not required to attend the hearing.

SUPPLEMENTARY INFORMATION:

Background: This is the fourth public hearing the Commission will hold during its 2018 report cycle. This hearing will explore Beijing's objectives in its relations with U.S. allies and partners in Europe and the Asia Pacific and the means by which Beijing seeks to achieve those objectives. It will examine how Beijing employs and integrates various elements of its national power to influence these countries, these countries' responses to Beijing's efforts, and the implications for the United States' interests and its relations with its European and Asia Pacific allies and partners. The hearing will be co-chaired by Vice Chairman Carolyn Bartholomew and Senator James Talent. Any interested party may file a written statement by April 5, 2018, by mailing to the contact above. A portion of each panel will include a question and answer period between the Commissioners and the witnesses.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: March 16, 2018.
Kathleen Wilson,
Finance and Operations Director, U.S.-China Economic and Security Review Commission.

[FR Doc. 2018-05712 Filed 3-20-18; 8:45 am]

BILLING CODE 1137-00-P